ENVIRONMENTAL PROTECTION AGENCY

40 CFR Part 52

[EPA-R04-OAR-2010-1036-201062; FRL-9286-5]

Approval and Promulgation of Implementation Plans and Designations of Areas for Air Quality Planning Purposes; Georgia: Atlanta; Determination of Attainment for the 1997 8-Hour Ozone Standards

AGENCY: Environmental Protection Agency (EPA).

ACTION: Proposed rule.

SUMMARY: EPA is proposing to determine that the Atlanta, Georgia nonattainment area has attained the 1997 8-hour ozone national ambient air quality standards (NAAQS) based on quality assured, quality controlled monitoring data from 2008-2010. The Atlanta, Georgia 1997 8-hour ozone nonattainment area (hereafter referred to as the “Atlanta Area”) is comprised of Barrow, Bartow, Carroll, Cherokee, Clayton, Cobb, Coweta, Dekalb, Douglas, Fayette, Forsyth, Fulton, Gwinnett, Hall, Henry, Newton, Paulding, Rockdale, Spalding and Walton Counties in Georgia. If this proposed determination is made final, the requirement for the State of Georgia to submit an attainment demonstration and associated reasonably available control measures (RACM) analysis, a reasonable further progress (RFP) plan, contingency measures, and other planning State Implementation Plans (SIPs) related to attainment of the 1997 8-hour ozone NAAQS for the Atlanta, Georgia 8-hour ozone nonattainment area, shall be suspended for as long as the Atlanta Area continues to meet the 1997 8-hour ozone NAAQS.

DATES: Written comments must be received on or before April 25, 2011.

ADDRESSES: Submit your comments, identified by Docket ID No. EPA-R04-OAR-2010-1036 by one of the following methods:

1. http://www.regulations.gov: Follow the on-line instructions for submitting comments.

2. E-mail: benjamin.lynorae@epa.gov.

3. Fax: (404) 562-9019.

4. Mail: “EPA-R04-OAR-2010-1036,” Regulatory Development Section, Air Planning Branch, Air, Pesticides and Toxics Management Division, U.S. Environmental Protection Agency, Region 4, 61 Forsyth Street, SW., Atlanta, Georgia 30303-8960.

5. Hand Delivery or Courier: Lynorae Benjamin, Chief, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Instructions: Direct your comments to Docket ID No. EPA-R04-OAR-2010-1036. EPA's policy is that all comments received will be included in the public docket without change and may be made available online at http://www.regulations.gov, including any personal information provided, unless the comment includes information claimed to be Confidential Business Information (CBI) or other information whose disclosure is restricted by statute. Do not submit through http://www.regulations.gov or by e-mail information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding Federal holidays.

FOR FURTHER INFORMATION CONTACT: Jane Spann or Zuri Farngalo, Regulatory Development Section, Air Planning Branch, Air, Pesticides and Toxics Management Division, U.S. Environmental Protection Agency, Region 4, 61 Forsyth Street, SW., Atlanta, Georgia 30303-8960. Ms. Spann may be reached by phone at (404) 562-9029 or via electronic e-mail at spann.jane@epa.gov. Mr. Farngalo may be reached by phone at (404) 562-9152 or via electronic mail at farngalo.zuri@epa.gov.

SUPPLEMENTARY INFORMATION:

I. What action is EPA taking?

II. What is the effect of this action?

III. What is the background for this action?

IV. What is EPA's analysis of the relevant air quality data?

V. Proposed Action

VI. Statutory and Executive Order Reviews

I. What action is EPA taking?

EPA is proposing to determine that the Atlanta Area has attained the 1997 8-hour ozone NAAQS. Today's proposal is based upon complete, quality assured, quality controlled, and certified ambient air monitoring data for the years 2008-2010 showing that the Atlanta Area has monitored attainment of the 1997 8-hour ozone NAAQS. EPA is in the process of establishing a new 8-hour ozone NAAQS, and expects to finalize the reconsidered NAAQS by July 2011. Today's action, however, relates only to the 1997 8-hour ozone NAAQS. Requirements for the Atlanta Area under the 2011 NAAQS will be addressed in the future.

II. What is the effect of this action?

If this determination is made final, under the provisions of EPA's ozone implementation rule (see 40 CFR 51.918), it would suspend the requirement to submit an attainment demonstration and associated RACM analysis, RFP plan, contingency measures,¹ and any other planning SIPs related to attainment of the 1997 8-hour ozone NAAQS. The attainment determination would continue until such time, if any, that EPA subsequently determines that the Atlanta Area has violated the 1997 8-hour ozone NAAQS. This determination is separate from any future designation determination or requirements for the Atlanta Area based on the revised or reconsidered ozone NAAQS, and would remain in effect regardless of whether EPA designates the Atlanta Area as a nonattainment area for purposes of a future revised or reconsidered 8-hour ozone NAAQS.² Furthermore, as described below, a final clean data determination is not equivalent to the redesignation of the Atlanta Area to attainment for the 1997 8-hour ozone NAAQS. If this rulemaking is finalized and EPA subsequently determines, after notice-and-comment rulemaking in the Federal Register, that the Atlanta Area has violated the 1997 8-hour ozone NAAQS, the basis for the suspension of the specific requirements, set forth at 40 CFR 51.918, would no longer exist, and the Atlanta Area would thereafter have to address pertinent requirements.

¹ Contingency measures associated with a maintenance plan (such as if the State opts to redesignate this Area to attainment for the 1997 8-hour ozone NAAQS) would still be required.

² As noted above, at this time the proposed determination of attainment, if finalized, would suspend only those requirements related to attainment that are currently applicable to the Atlanta Area.

As mentioned above, the determination that EPA proposes with this Federal Register notice is not equivalent to a redesignation of the Atlanta Area to attainment. Finalizing this proposed action would not constitute a redesignation of the Area to attainment of the 1997 8-hour ozone NAAQS under section 107(d)(3) of the CAA. Further, finalizing this proposed action does not involve approving a maintenance plan for this Area as required under section 175A of the CAA, or affirm that the Area has met all other requirements for redesignation. The designation status of the Atlanta Area would remain nonattainment for the 1997 8-hour ozone NAAQS until such time as EPA determines that it meets the CAA requirements for redesignation to attainment. The State of Georgia is currently working on a redesignation request and maintenance plan to change the Atlanta Area's status from nonattainment to attainment for the 1997 8-hour ozone NAAQS. EPA will consider Georgia's redesignation request and maintenance plan for the Atlanta Area in a rulemaking separate from today's proposed action.

This proposed action, if finalized, is limited to a determination that the Atlanta Area has attained the 1997 8-hour ozone NAAQS. The 1997 8-hour ozone NAAQS became effective on July 18, 1997 (62 FR 38894), and are set forth at 40 CFR 50.10. On March 12, 2008, EPA promulgated revised 8-hour ozone NAAQS. Subsequently, on January 19, 2010, EPA published a proposed rule to reconsider the 2008 8-hour ozone NAAQS (75 FR 2938) and to propose a revised ozone NAAQS. EPA has not yet made any designation determinations for the Atlanta Area based on the revised 2008 8-hour ozone NAAQS. Today's proposed determination for the Atlanta Area, and any final determination, will have no effect on, and is not related to, any future designation determination that EPA may make based on the revised or reconsidered ozone NAAQS for the Atlanta Area.

If this proposed determination is made final and the Atlanta Area continues to demonstrate attainment with the 1997 8-hour ozone NAAQS, the obligation for the State of Georgia to submit for the Atlanta Area an attainment demonstration and associated RACM analysis, RFP plan, contingency measures, and any other planning SIPs related to attainment of the 1997 8-hour ozone NAAQS will remain suspended regardless of whether EPA designates the Atlanta Area as a nonattainment area for purposes of the revised or reconsidered ozone NAAQS. Once the Atlanta Area is designated for the revised or reconsidered ozone NAAQS, it will have to meet all applicable requirements for that designation.

III. What is the background for this action?

On July 18, 1997 (62 FR 38894), EPA promulgated a revised 8-hour ozone NAAQS of 0.08 parts per million (ppm) for both the primary and secondary standards. These NAAQS are more stringent than the previous 1-hour ozone NAAQS. Under EPA regulations at 40 CFR part 50, the 8-hour ozone NAAQS is attained when the 3-year average of the annual fourth-highest daily maximum 8-hour average ambient air quality ozone concentration is less than or equal to 0.08 ppm (i.e., 0.084 ppm when rounding is considered). Ambient air quality monitoring data for the 3-year period must meet a data completeness requirement. The ambient air quality monitoring data completeness requirement is met when the average percent of days with valid ambient monitoring data is greater than 90 percent, and no single year has less than 75 percent data completeness as determined in Appendix I of part 50. Specifically, section 2.3 of 40 CFR part 50, Appendix I, “Comparisons with the Primary and Secondary Ozone Standards” states:

The primary and secondary ozone ambient air quality standards are met at an ambient air quality monitoring site when the 3-year average of the annual fourth-highest daily maximum 8-hour average ozone concentration is less than or equal to 0.08 ppm. The number of significant figures in the level of the standard dictates the rounding convention for comparing the computed 3-year average annual fourth-highest daily maximum 8-hour average ozone concentration with the level of the standard. The third decimal place of the computed value is rounded, with values equal to or greater than 5 rounding up. Thus, a computed 3-year average ozone concentration of 0.085 ppm is the smallest value that is greater than 0.08 ppm.

On April 30, 2004 (69 FR 23857), EPA published its air quality designations and classifications for the 1997 8-hour ozone NAAQS based upon air quality monitoring data from those monitors for calendar years 2001-2003. These designations became effective on June 15, 2004. The Atlanta Area is comprised of Barrow, Bartow, Carroll, Cherokee, Clayton, Cobb, Coweta, Dekalb, Douglas, Fayette, Forsyth, Fulton, Gwinnett, Hall, Henry, Newton, Paulding, Rockdale, Spalding, and Walton Counties; and was designated nonattainment for the 1997 8-hour ozone NAAQS (see 40 CFR part 81).

IV. What is EPA's analysis of the relevant air quality data?

EPA has reviewed the three most recent years of complete, certified, quality assured and quality controlled ambient air monitoring data for the 1997 8-hour ozone NAAQS, consistent with the requirements contained in 40 CFR part 50, as recorded in the EPA Air Quality System (AQS) database for the Atlanta Area. Based on that review, EPA has preliminarily concluded that the Atlanta Area attained the 1997 8-hour ozone NAAQS during the 2008-2010 monitoring period. Under EPA regulations at 40 CFR 50.10, the 1997 8-hour primary and secondary ozone ambient air quality NAAQS are met at an ambient air quality monitoring site when the three-year average of the annual fourth-highest daily maximum 8-hour average concentration is less than or equal to 0.08 ppm, as determined in accordance with Appendix I of 40 CFR part 50.

Table 1 shows the design values (the metrics calculated in accordance with 40 CFR part 50, Appendix I, for determining compliance with the NAAQS) for the 1997 8-hour ozone NAAQS for the Atlanta Area monitors for the years 2008-2010. Table 2 shows the data completeness percentages for the 1997 8-hours ozone NAAQS for the Atlanta Area monitors for the years 2008-2010.

Table 1—Design Values for Counties in the Atlanta, Georgia Nonattainment Area for the 1997 8-Hour Ozone NAAQS
Location | AQS site ID | 2008 (ppm) | 2009 (ppm) | 2010 (ppm) | 2008-2010 Design value (ppm)
Cobb County | GA NATIONAL GUARD MCCOLLUM PARKWAY (13-067-0003) | 0.075 | 0.076 | 0.079 | 0.076
Coweta County | UNIVERSITY OF W. GA AT NEWNAN (13-077-0002) | 0.075 | 0.065 | 0.065 | 0.068
Dawson County | DAWSONVILLE, GA FORESTRY COMMISSION (13-085-0001) | 0.075 | 0.067 | 0.073 | 0.071
Dekalb County | 2390-B Wildcat Road Decatur, GA (13-089-0002) | 0.087 | 0.077 | 0.075 | 0.079
Douglas County | DOUGLASVILLE W. STRICKLAND ST. (13-097-0004) | 0.080 | 0.072 | 0.074 | 0.075
Gwinnett County | GWINNETT TECH 1250 ATKINSON RD (13-135-0002) | 0.079 | 0.073 | 0.072 | 0.074
Henry County | HENRY COUNTY EXTENSION OFFICE (13-151-0002) | 0.086 | 0.074 | 0.078 | 0.079
Paulding County | YORKVILLE (13-223-0003) | 0.072 | 0.067 | 0.071 | 0.070
Rockdale County | CONYERS MONASTERY 3780 GA HWY 212 (13-247-0001) | 0.089 | 0.070 | 0.076 | 0.078
Fulton County | CONFEDERATE AVE. (13-121-0055) | 0.084 | 0.077 | 0.080 | 0.080

Table 2—Completeness Percentages for Ozone Monitors in the Atlanta, Georgia Nonattainment Area for the 1997 8-Hour Ozone NAAQS
Location | AQS site ID | 2008 (%) | 2009 (%) | 2010 (%) | 2008-2010 Percentage average (%)
Cobb County | GA NATIONAL GUARD, MCCOLLUM PARKWAY (13-067-0003) | 99 | 99 | 100 | 100
Coweta County | UNIVERSITY OF W. GA AT NEWNAN (13-077-0002) | 100 | 97 | 100 | 99
Dawson County | DAWSONVILLE, GA FORESTRY COMMISSION (13-085-0001) | 99 | 95 | 100 | 98
Dekalb County | 2390-B Wildcat Road, Decatur GA (13-089-0002) | 99 | 98 | 98 | 98
Douglas County | DOUGLASVILLE W. STRICKLAND ST. (13-097-0004) | 97 | 100 | 100 | 99
Gwinnett County | GWINNETT TECH 1250 ATKINSON RD (13-135-0002) | 92 | 100 | 94 | 95
Henry County | HENRY COUNTY EXTENSION OFFICE (13-151-0002) | 100 | 100 | 100 | 100
Paulding County | YORKVILLE (13-223-0003) | 99 | 100 | 100 | 99
Rockdale County | CONYERS MONASTERY 3780 GA HWY 212 (13-247-0001) | 98 | 99 | 100 | 99
Fulton County | CONFEDERATE AVE. (13-121-0055) | 96 | 98 | 99 | 98

EPA's review of these data indicate that the Atlanta Area has met and continues to meet the 1997 8-hour ozone NAAQS. EPA is soliciting public comments on the issues discussed in this document. These comments will be considered before taking final action.

V. Proposed Action

EPA is proposing to determine that the Atlanta, Georgia 1997 8-hour nonattainment area has attained the 1997 8-hour ozone NAAQS based on 2008-2010 complete, quality-assured, quality-controlled and certified monitoring data. As provided in 40 CFR 51.918, if EPA finalizes this determination, it would suspend the requirements for the State of Georgia to submit, for the Atlanta Area, an attainment demonstration and associated RACM analysis, RFP plan, contingency measures, and any other planning SIPs related to attainment of the 1997 8-hour ozone NAAQS as long as the Area continues to attain the 1997 8-hour ozone NAAQS.

VI. Statutory and Executive Order Reviews

This action proposes to make a determination of attainment based on air quality, and would, if finalized, result in the suspension of certain federal requirements, and it would not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994). In addition, this proposed 1997 8-hour ozone NAAQS data determination for the Atlanta Area does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Intergovernmental relations, Ozone, Reporting and recordkeeping requirements, Volatile organic compounds, Oxides of nitrogen.

Dated: March 17, 2011.
A. Stanley Meiburg,
Acting Regional Administrator, Regional Administrator, Region 4.

[FR Doc. 2011-7114 Filed 3-24-11; 8:45 am]

BILLING CODE 6560-50-P